DEPARTMENT OF THE TREASURY

Internal Revenue Service

26 CFR Parts 1 and 301

[REG-148873-09]

RIN 1545-BJ16

IRS Truncated Taxpayer Identification Numbers; Hearing Cancellation

AGENCY: Internal Revenue Service (IRS), Treasury.

ACTION: Cancellation of a notice of public hearing on proposed rulemaking.

SUMMARY: This document cancels a public hearing on proposed regulations under the Internal Revenue Code. The proposed regulations provide guidance for creating a new taxpayer identifying number known as an IRS truncated taxpayer identification number, a TTIN.

DATES: The public hearing, originally scheduled for March 12, 2013 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on Monday, January 7, 2013 (78 FR 913) announced that a public hearing was scheduled for March 12, 2013, at 10 a.m. in the IRS Auditorium, Internal Revenue Building, 1111 Constitution Avenue NW. Washington, DC. The subject of the public hearing was under sections 6042, 6043, 6044, 6045, 6049, and 6050 of the Internal Revenue Code.

The public comment period for these regulations expired on February 20, 2013. The notice of proposed rulemaking and notice of public hearing instructed those interested in testifying at the public hearing to submit a request to speak and an outline of topics to be addressed. The agency received one request. As of Monday, March 5, 2013 that request was withdrawn. The public hearing scheduled for March 12, 2013, is cancelled.

LaNita VanDyke,
Chief, Publications and Regulations Branch, Legal Processing Division, Associate Chief Counsel (Procedure and Administration).

[FR Doc. 2013-05516 Filed 3-8-13; 8:45 am]

BILLING CODE 4830-01-P